ELECTION ASSISTANCE COMMISSION

Agency Information Collection Activities: Testing and Certification Forms

AGENCY: U.S. Election Assistance Commission (EAC).

ACTION: Notice; request for comment.

SUMMARY: As part of its continuing effort to reduce paperwork burdens, and as required by the Paperwork Reduction Act of 1995 (PRA), the U.S. Election Assistance Commission (EAC) gives notice that it is requesting from the Office of Management and Budget (OMB) approval for the information collection of four Testing and Certification forms.

DATES: Comments must be received by 5 p.m. Eastern on Friday, September 10, 2022.

ADDRESSES: To view the proposed forms, see: https://www.regulations.gov (docket IDs: EAC-2022-0001, EAC-2022-0002, EAC-2022-0003, EAC-2022-0004).

Written comments on the proposed information collection can also be sent to the U.S. Election Assistance Commission, 633 3rd Street NW, Suite 200, Washington, DC 20001, Attn: Testing & Certification.

FOR FURTHER INFORMATION CONTACT: Paul Aumayr, Senior Election Technology Specialist, Testing and Certification Program, Washington, DC (301)-563-3919. Email: testingcertification@eac.gov.

All requests and submissions should be identified by the title of the information collection.

SUPPLEMENTARY INFORMATION:

Title and OMB Number

Manufacturer Registration, Application for Testing, Voting System Anomaly Reporting and Root Cause Analysis

OMB Number Pending. 87 FR 30930 (Page 30930-30931, Document Number 2022-10900)

Purpose

This proposed information collection was previously published in the Federal Register on Friday, May 20, 2022 and allowed 60 days for public comment. In compliance with Section 3507(a)(1)(D) of the Paperwork Reduction Act (PRA) of 1995, EAC is submitting to the Office of Management and Budget (OMB) a request for review and approval of the information collection described. The purpose of this notice is to allow an additional 30 days for public comment from all interested individuals and organizations.

The EAC Testing and Certification Program assists state and local election officials by providing voting machine testing and certification. This program is a requirement of the Help America Vote Act (HAVA) of 2002, legislation that created the EAC and mandated that the Commission provide certification, decertification, and recertification of voting systems.

Public Comments

We are soliciting public comments to permit the EAC to:

• Evaluate whether the proposed information collection is necessary and sufficient for the proper functions of Testing and Certification Program.

• Enhance the quality, utility, and clarity of the information to be collected.

• Minimize the reporting burden on those who are to respond, including the use of information technology.

Please note that comments submitted in response to this Notice are public record. Before including any detailed personal information, you should be aware that your comments as submitted, including your personal information, will be available for public review.

Respondents: Voting System Manufacturers, State and Local governments.

Annual Reporting Burden

Annual Burden Estimates
Instrument | Estimated number of respondents | Total number of responses per year | Average burden hours per response | Annual burden hours
Manufacturer Registration Form | 1 | 1 | 2 | 2
Voting System Certification Application Form | 5 | 5 | 2 | 10
Field Anomaly Reporting Form | 5 | 5 | 2 | 10
Voting System Root Cause Analysis | 5 | 5 | 30 | 150
Total |  | 26 |  | 172

The estimated cost of the annualized cost of this burden is: $14,876.

Camden Kelliher,
Associate Counsel, U.S. Election Assistance Commission.

[FR Doc. 2022-17251 Filed 8-10-22; 8:45 am]

BILLING CODE P